DEPARTMENT OF LABOR

Employment and Training Administration

[TA-W-65,203]

Qimonda North America Corporation, Qimonda Richmond, a Subsidiary of Qimonda AG, Sandston, VA; Notice of Termination of Investigation

Pursuant to Section 221 of the Trade Act of 1974, as amended, an investigation was initiated on February 10, 2009 in response to a worker petition filed on behalf of workers of Qimonda North America Corporation, Qimonda Richmond, a subsidiary of Qimonda AG, Sandston, Virginia.

The petitioning group of workers is covered by an active certification, (TA-W-64,401) which expires on December 11, 2010. Consequently, further investigation in this case would serve no purpose, and the investigation has been terminated.

Signed at Washington, DC this 31st day of March 2009.
Elliott S. Kushner,
Certifying Officer, Division of Trade Adjustment Assistance.

[FR Doc. E9-10214 Filed 5-4-09; 8:45 am]

BILLING CODE 4510-FN-P